DEPARTMENT OF HOMELAND SECURITY

8 CFR Part 100

[CBP Dec. 25-17; Docket No. USCBP-2026-0133]

RIN 1651-AB64

Establishing the Gordie Howe International Bridge as a Port of Entry in Detroit, MI

AGENCY: U.S. Customs and Border Protection, Department of Homeland Security.

ACTION: Final rule.

SUMMARY: This rule establishes the Gordie Howe International Bridge border crossing as a Class A port of entry for immigration purposes and as part of the port of Detroit for customs purposes. Establishing the Gordie Howe International Bridge border crossing is part of U.S. Customs and Border Protection's (CBP) continuing program to use its personnel, facilities, and resources more efficiently and to provide better service to carriers, importers, and the general public.

DATES: This final rule is effective March 2, 2026. CBP will notify the public when the Gordie Howe International Bridge border crossing is fully operational and open to the public for use through a notice published on the CBP website.

FOR FURTHER INFORMATION CONTACT: Joshua Serian, Office of Field Operations, U.S. Customs and Border Protection, (202) 713-8649, or by email at joshua.serian@cbp.dhs.gov.

SUPPLEMENTARY INFORMATION:

I. Background

As part of its continuing efforts to use personnel, facilities, and resources more efficiently, and to provide better service to carriers, importers, and the general public, U.S. Customs and Border Protection (CBP) is establishing the Gordie Howe International Bridge border crossing as a Class A port of entry for immigration purposes and as part of the port of entry of Detroit for customs purposes. CBP ports of entry are locations where CBP officers and employees are assigned to accept entries of merchandise, clear passengers, collect duties, and enforce the various provisions of customs, immigration, agriculture, and related U.S. laws at the border. The term “port of entry” is used in the Code of Federal Regulations (CFR) in title 8 for immigration purposes and in title 19 for customs purposes.

For immigration purposes, 8 CFR 100.4(a) lists ports of entry for aliens arriving by vessel or by land transportation. These ports are listed according to location by district and are designated as Class A, B, or C, which designates which aliens may use the port. This rule establishes the Gordie Howe International Bridge border crossing as a Class A port of entry for immigration purposes in title 8 and makes that change at 8 CFR 100.4(a). Class A means the port is a designated port of entry for all aliens.

For customs purposes, CBP operates Customs ports of entry,¹ Customs service ports,² and Customs stations ³ listed and described in part 101 of the CBP regulations (19 CFR part 101). See 19 CFR 101.3(b)(1), 101.3(b)(2), and 101.4(c). The Gordie Howe International Bridge border crossing is situated entirely within the corporate limits of the city of Detroit, Michigan, which is included in the port limits of Detroit. See 19 CFR 101.3(b)(1). Therefore, the Gordie Howe International Bridge border crossing will operate as a part of the port of entry of Detroit and will not be specifically listed in 19 CFR part 101.

¹ A port of entry is defined in 19 CFR 101.1 as “any place designated by Executive Order of the President, by order of the Secretary of the Treasury, or by Act of Congress, at which a U.S. Customs and Border Protection (“CBP”) officer is authorized to accept entries of merchandise to collect duties, and to enforce the various provisions of the customs and navigation laws.” The authority of the Secretary of the Treasury referred to in this definition has been transferred to the Secretary of Homeland Security. Sections 403(l) and 411 of the Homeland Security Act of 2002 (“the Act,” Pub. L. 107-296, 6 U.S.C. 203(l), 211) transferred the United States Customs Service and its functions from the Department of the Treasury to the Department of Homeland Security.

² A service port is defined in 19 CFR 101.1 as “a Customs location having a full range of cargo processing functions, including inspections, entry, collections, and verification.”

³ A Customs station is defined in 19 CFR 101.1 as “any place, other than a port of entry, at which Customs officers or employees are stationed, under the authority contained in article IX of the President's Message of March 3, 1913 (T.D. 33249), to enter and clear vessels, accept entries of merchandise, collect duties, and enforce the various provisions of the Customs and navigation laws of the United States.”

II. The Gordie Howe International Bridge Project

In 2001, Transport Canada, the United States Federal Highway Administration, the Ontario Ministry of Transportation, and the Michigan Department of Transportation formed the Canada-United States-Ontario-Michigan Border Transportation Partnership (the Partnership) to identify and evaluate border infrastructure improvements in the Detroit, Michigan—Windsor, Ontario trade corridor, with a focus on the long-term studies needed to support this work. The study was completed in 2004 and included a broad range of recommendations, including the recommendation that a new or expanded international crossing be constructed and connected to highway networks on both sides of the border.

Following the completion of the study, the formal environmental assessment process was launched to develop a new or expanded Detroit-Windsor crossing. A coordinated environmental study process was developed to meet the legislative requirements of each jurisdiction. Through the environmental assessment process, the location for a new Detroit-Windsor crossing, associated border inspection facilities, and freeway connections were selected in both Canada and the United States.

In February 2015, Transport Canada, the Windsor-Detroit Bridge Authority, the General Services Administration, CBP, and the State of Michigan signed a non-binding arrangement which identified the roles and responsibilities of the Federal Government in areas of project requirements delivery, project funding and project management, and leasing. Infrastructure Canada replaced Transport Canada as the lead Canadian agency. In alignment with the arrangement detailed within the agreement, the Windsor-Detroit Bridge Authority provided funding for the design and construction of the Gordie Howe International Bridge and the U.S. Plaza.

Construction began in October of 2018. The final steps necessary prior to opening the Gordie Howe International Bridge border crossing, including the assignment of CBP officers, have subsequently been completed.

III. Statutory and Regulatory Reviews

A. Inapplicability of Notice and Public Procedure Requirements

Under section 553 of the Administrative Procedure Act (APA) (5 U.S.C. 553), rulemaking generally requires prior notice and comment, subject to specified exceptions. Pursuant to 5 U.S.C. 553(b)(A), rules of agency organization, procedure, and practice are exempted from the notice and comment requirements of the APA. The “procedural exception” applies where a rule is “primarily directed towards improving the efficient and effective operations of an agency.” ⁴ The purpose of the exception is to “ensure that agencies retain latitude in organizing their internal operations.⁵ A critical feature of a rule that satisfies the procedural exception is that it does not alter the substantive rights or impose substantive burdens to parties subject to the rule.⁶

⁴ Mendoza v. Perez, 754 F.3d 1002, 1023 (D.C. Cir. 2014); Batterton v. Marshall, 648 F.2d 694, 702 n.34 (D.D.C. 1980) (“An internal agency `practice or procedure' is primarily directed towards improving the efficient and effective operations of an agency, not toward a determination of the rights or interests of affected parties.”).

⁵ Mendoza, 754 F.3d at 1023 (quoting Batterton, 648 F.2d at 707).

⁶ James V. Hurson Assocs., Inc. v. Glickman, 229 F.3d 277, 280 (D.C. Cir. 2000) (internal quotation marks omitted).

This rule is about the efficient allocation of CBP personnel to address the opening of a new entry into the United States.⁷ As needed, CBP establishes, expands, and consolidates ports of entry throughout the United States and assigns CBP officers and other personnel to accommodate the volume of CBP-related activity to effectively manage CBP's mission of protecting the American people, safeguarding our borders, and enhancing the nation's economic prosperity. This final rule relates to agency organization (5 U.S.C. 553(b)(A)) because it pertains to CBP's organization of ports of entry to accommodate the opening of the Gordie Howe International Bridge, which provides an additional pathway for border crossings relating to international trade and immigration-related functions. The rule also implicates CBP's organization, as it merely involves the distribution of CBP personnel and resources to the new crossing within the existing port limits of Detroit.

⁷ Mendoza v. Perez, 754 F.3d at 1023.

Further, this rule does not alter the substantive rights or interests of parties, including commercial and private vehicles seeking to enter the United States, as it has no impact on the determinations CBP personnel will be making regarding immigration or customs related matters at the crossing.⁸ Rather, as explained above, this rule merely modifies the organization of CBP's personnel and resources at the newly opened crossing to more effectively address the activities that are already occurring along the border with Canada. Therefore, advance notice and comment are unnecessary because this rule satisfies the procedural exception. 5 U.S.C. 553(b)(A).

⁸ James V. Hurson Assocs., Inc. v. Glickman, 229 F.3d 277, 280 (D.C. Cir. 2000) (“The critical feature of a rule that satisfies the so-called procedural exception is that it covers agency actions that do not themselves alter the rights or interests of parties, although it may alter the manner in which the parties present themselves or their viewpoints to the agency.”)

B. Executive Orders 12866, 13563, and 14192

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility. Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this rulemaking as a significant regulatory action under section 3(f) of Executive Order 12866. Accordingly, OMB has not reviewed it. Pursuant to section 5(a) of Executive Order 14192, the requirements of that Executive Order do not apply to regulations issued with respect to immigration-related functions of the United States. As discussed above, this rule is issued with respect to an immigration-related function of the United States Government (such as those functions to be performed at the Gordie Howe International Bridge border crossing with respect to aliens). Additionally, pursuant to section 5(b) of Executive Order 14192, the requirements of that Executive Order do not apply to regulations related to agency organization. As discussed above, this rule is related to agency organization because the Gordie Howe International Bridge provides an additional pathway for border crossings relating to international trade and it involves the distribution of CBP personnel and resources to the new crossing within the existing port limits of Detroit. Accordingly, this rule is exempt from the requirements of Executive Order 14192.

However, this final rule is considered an Executive Order 14192 deregulatory action because it expands consumption and production options and is therefore an enabling regulatory action. See OMB's Memorandum “Guidance Implementing Section 3 of Executive Order 14192, titled `Unleashing Prosperity Through Deregulation' ” (March 26, 2025). Opening the Gordie Howe International Bridge border crossing increases production and consumption by easing the flow of traffic across the international border and increasing international trade. Additionally, the opening will create an average annual cost savings of $5.1 million for personal vehicles and an average annual cost savings of $7.6 million for commercial vehicles.

Purpose of the Rule

This rule will designate Gordie Howe International Bridge (GHIB) port of entry (POE) status as a Class A Port and as an immigration and customs port of entry. GHIB will be an international bridge connecting Detroit, Michigan, and Windsor, Ontario. The new construction includes a U.S. and Canadian Customs Plaza with associated roadway development. The bridge and crossing will be located 2 miles west of Ambassador Bridge and 4 miles from the Detroit-Windsor Tunnel. GHIB will be an innovative crossing as it will have a highway-to-highway connection. This seamless connection benefits the international trade industry and the public. Additionally, GHIB may bring new traffic into the area. The crossing is set to open in fiscal year (FY) 2026. The new crossing is planned to operate under the Windsor-Detroit Bridge Authority.

In the regulatory impact analysis herein, CBP discusses the existing crossings in the Detroit, Michigan area and how the new bridge will affect traffic patterns. The GHIB and associated construction are being built by state authorities and the Windsor-Detroit Bridge Authority. CBP is not responsible for the construction of this facility. However, this rule will allow CBP to staff and operate the facility as a POE. As CBP begins to process traffic at GHIB, it will create benefits, cost savings, and costs for the public and CBP. In this analysis, CBP discusses relevant background information, costs, benefits, and net impact of this rule for all parties. Costs and benefits will be described in qualitative, and when possible, quantitative, and monetized terms.

Background

In fiscal year 2023, Detroit was the second largest U.S. freight port by value and was the largest on the U.S.-Canada border. It handled $126 billion of value traded by commercial trucks.⁹ It also ranked second in total overall truck volume into the United States and first on the U.S.-Canada border, with 1,548,406 trucks entering the United States in FY 2023.¹⁰ Currently, there are two land crossings that are operational in Detroit, Michigan—the Ambassador Bridge (AMB) and the Detroit-Windsor Tunnel (DWT). Additionally, Port Huron's Blue Water Bridge (BWB) is a viable alternative due to location and highway placement, so it is included in this analysis to account for traffic flows. Timely travel between the United States and Canada is imperative to facilitate international trade. Industries rely on deliveries between the two countries to maintain production levels. The next paragraphs will discuss each crossing and their historical traffic volumes.

⁹ Data retrieved from the Department of Transportation's Border Crossing/Entry Data. Available at: https://explore.dot.gov/views/Dashboard_PortbyCommodity/PortsbyCommodities. Last accessed: June 12th, 2024.

¹⁰ Data retrieved from the Department of Transportation's Border Crossing/Entry Data. Available at: https://data.bts.gov/Research-and-Statistics/Border-Crossings-by-Mode-Border-and-State/erjk-mneb. Last accessed: June 13th, 2024.

Ambassador Bridge is a tolled suspension bridge that connects Detroit to Windsor. The AMB opened in 1930 with a predicted lifespan of 100 years. The 94-year-old bridge is currently under construction to extend its lifespan by 75 more years. Currently, the U.S. border crossing facility has a maximum of 13 lanes to process commercial vehicles (COVs) and 17 lanes for passenger vehicles (POVs). However, all these lanes may not be open at the same time. Lanes are open/closed based on staffing, demand, and other factors.

In addition to AMB, there is the underwater Detroit-Windsor Tunnel that opened in 1930. It currently has 11 lanes, with 1 devoted to commercial vehicles with the remaining lanes used for POVs.

Lastly, Blue Water Bridge is an international crossing in Port Huron that crosses the St. Clair River, approximately 60 miles north of Detroit. It opened in 1938. At maximum operation, Blue Water Bridge has 9 commercial lanes and 7 passenger lanes.

Table 1 presents data on the levels of crossings by vehicle type for AMB, DWT, and BWB.¹¹

¹¹ Note: CBP does not keep records of traffic exiting the United States (north bound traffic).

Table 1—Detroit Area & Blue Water Bridge Historical South Bound Crossings
Fiscal year | AMB: POV | AMB: COV | DWT: POV | DWT: COV | BWB: POV | BWB: COV
2010 | 2,317,955 | 1,434,904 | 1,656,471 | 0 | 1,603,130 | 689,502
2011 | 2,291,402 | 1,418,076 | 1,774,060 | 54,947 | 1,821,179 | 666,760
2012 | 2,248,255 | 1,486,471 | 1,908,647 | 40,215 | 1,961,278 | 685,417
2013 | 2,199,988 | 1,482,278 | 1,934,006 | 43,407 | 2,009,544 | 719,686
2014 | 2,097,123 | 1,502,999 | 1,954,513 | 39,217 | 1,966,384 | 761,311
2015 | 2,035,978 | 1,496,240 | 2,048,521 | 35,188 | 1,734,643 | 798,112
2016 | 1,910,264 | 1,566,291 | 2,148,006 | 34,350 | 1,572,286 | 833,810
2017 | 1,839,278 | 1,555,861 | 2,210,505 | 26,367 | 1,583,801 | 831,676
2018 | 2,097,747 | 1,556,653 | 1,890,476 | 22,340 | 1,553,230 | 819,856
2019 | 2,027,532 | 1,518,680 | 2,053,488 | 19,855 | 1,475,484 | 823,255
2020 | 1,095,065 | 1,352,415 | 1,124,632 | 13,400 | 616,818 | 723,797
2021 | 588,492 | 1,384,678 | 434,789 | 10,287 | 121,617 | 835,303
2022 | 964,229 | 1,388,712 | 1,143,098 | 19,131 | 578,075 | 884,593
2023 | 1,528,735 | 1,528,542 | 1,755,245 | 20,051 | 952,209 | 796,004
2024 | 1,736,254 | 1,472,790 | 1,913,455 | 18,482 | 1,028,978 | 880,887

Construction Costs

CBP will not be responsible for design, construction, maintenance, or rent of the new facility.¹² Additionally, the cost of both the bridge and Michigan Interchange (connecting ramps from I-75 to the U.S. POE and associated road improvements) will be covered by a 36-year design-build-finance-operate-maintain availability payment conception that will be managed by Windsor-Detroit Bridge Authority, a not-for-profit owned by the Canadian Government.¹³ The total cost for the Canadian and U.S. POE, GHIB, the Michigan Interchange, and maintenance for 30 years is $6.4B Canadian ($4.7B USD) and will be recovered through toll revenues.¹⁴ ¹⁵ The annual cost over the lifetime of the agreement (30 years) is approximately $158,000,000 USD. As this final rule is not responsible for the cost of building the bridge or facility, these costs will not be included in the analysis, nor is the toll that recovers those costs. This final rule will allow CBP to operate the facility as a POE and all associated costs or cost savings that stem from port operations will be reported in this analysis, including reduced travel time for the public, as this rule enables the public to access a faster travel route.

¹² Source for CBP costs: Data provided by CBP, Office of Field Operations, Fleet & Facilities Division, on March 25th, 2024. Note: Rent will be covered by tolls for the next 100 years (2025-2125); after this, CBP may or may not be responsible for rent costs.

¹³ Source for project funding: U.S. Department of Transportation Federal Highway Administration Project Profile. Available at: https://www.fhwa.dot.gov/ipd/project_profiles/mi_gordie_howe_int_bridge.aspx. Last accessed June 13th, 2024.

¹⁴ Source for tolls: Data provided by CBP, Office of Field Operations, Fleet & Facilities Division, on April 11th, 2024.

¹⁵ Canadian dollars are converted to U.S. dollars using the “Yearly Average Exchange Rates for Converting Foreign Currencies into U.S. Dollars”. The yearly average exchange rate for Canada was 1.350 in 2023. Available at: https://www.irs.gov/individuals/international-taxpayers/yearly-average-currency-exchange-rates. Last accessed July 3rd, 2024.

Future Traffic Patterns—Baseline

In order to forecast future traffic shifts, we must establish a baseline of traffic over the period of analysis. The forecasted period will be FY2025 to FY2030, and we use data from FY2016 to FY2024 to inform our analysis of this period. This baseline will assume that Gordie Howe International Bridge was not built, and current traffic patterns remain constant. Additionally, we assume that no major unpredictable events (natural disaster, pandemic, etc.) occur in the future. To forecast years 2025-2030, we used growth rates from the “Supplemental Travel Demand Modeling Technical Report,” prepared for the Michigan Department of Transportation in April 2018.¹⁶ These growth rates can be found in Table 2. While these growth rates were developed before the COVID-19 pandemic, CBP operational subject matter experts believe they are still a reasonable estimate of expected growth now that traffic has largely rebounded to pre-pandemic levels. The multiplier was found using the following formula:

¹⁶ Mich. Dep't of Transp., Supplemental Travel Demand Modeling Technical Report: Gordie Howe International Bridge 18 (2018).

Multiplier = 1 + Growth Rate.

To calculate the number of crossings for our target year, we multiply the previous year's number of crossings by vehicle type by the corresponding multiplier. For example, to find the crossings in 2025 for the Ambassador Bridge, we used the following formula:

AMB CrossingsPOV,2025 = AMB CrossingsPOV,2024 * AMB multiplier.

We repeated this calculation for each year in the scope of the analysis (2025-2030). In order to account for all traffic (north and south bound), we assume that all traffic that enters the United States will also leave. This assumption is necessary as north bound (i.e., outbound) traffic will experience benefits from this rule and quality data on outbound traffic is not available. In order to ensure that these benefits are recorded, south bound traffic data will be doubled. The results for each crossing by vehicle type are reported in Table 3. Table 4 calculates the traffic distributions by vehicle type for each crossing. This distribution is calculated by taking the number of crossings of each port and vehicle type then dividing total number of all crossings by vehicle type.

Table 2—Projected Growth Rates
Crossing | Rate
AMB | 0.0071
AMB multiplier | 1.0071
DWT | 0.0041
DWT multiplier | 1.0041
BWB | 0.0101
BWB multiplier | 1.0101
GHIB | 0.0082
GHIB multiplier | 1.0082
Source: Supplemental Travel Demand Modeling Technical Report.

Table 3—Baseline Forecast in Thousands—No GHIB
[North and south bound traffic]
Fiscal year | AMB: POV | AMB: COV | DWT: POV | DWT: COV | BWB: POV | BWB: COV | Total: POV | Total: COV
2025 | 3,497 | 2,966 | 3,843 | 37 | 2,079 | 1,780 | 9,419 | 4,783
2026 | 3,522 | 2,988 | 3,858 | 37 | 2,100 | 1,798 | 9,480 | 4,822
2027 | 3,547 | 3,009 | 3,874 | 37 | 2,121 | 1,816 | 9,542 | 4,862
2028 | 3,572 | 3,030 | 3,890 | 38 | 2,142 | 1,834 | 9,605 | 4,902
2029 | 3,598 | 3,052 | 3,906 | 38 | 2,164 | 1,853 | 9,668 | 4,942
2030 | 3,623 | 3,073 | 3,922 | 38 | 2,186 | 1,871 | 9,731 | 4,982

Table 4—Traffic Share Distribution 2026—No GHIB
POE | POV (%) | COV (%)
AMB | 36.13 | 65.07
DWT | 41.23 | 0.85
BWB | 22.64 | 34.09

Future Traffic Patterns—Gordie Howe International Bridge

We next estimate the future traffic patterns taking into account that Gordie Howe International Bridge will open in FY 2026 and change traffic patterns as vehicles select to use the new bridge. Again, the forecast will assume no major unpredictable events (natural disaster, pandemic, etc.) occur in the future. Traffic forecasts are based on the most recent years and do not factor in new traffic being brought into the area by this crossing. If substantial growth occurs, then traffic may be higher at all crossings. However, there is not sufficient data to predict how new traffic will react to the GHIB crossing. Our analysis will assume that recent year trends continue and that growth rates from Table 2 are sufficient. The first step is to calculate the number of crossings by port and vehicle type in FY 2024. To do this, the number of crossings in 2024 is multiplied by the corresponding growth rate (see Table 2). When GHIB is complete in FY 2026 and is open to the public, traffic will disperse between all four potential crossings. To account for the shifting traffic flows, we use traffic distributions from the “Preliminary Results of the Comprehensive Traffic and Toll Revenue Study for the DRIC Project Forecast Refresh and Update” report prepared for the Michigan Department of Transportation.¹⁷ The aforementioned study estimates the distribution of traffic shares using the weekday traffic volumes and vehicle type. Additionally, the estimates account for any weekend traffic or seasonal variations. The estimated traffic share distributions are in Table 5.¹⁸ Next, to determine the number of crossings at each port of entry in 2026, we multiply the forecasted number of crossings in 2025 for each vehicle type by their respective distribution and the respective growth rate in Table 2 (see example below). Total numbers of crossings are found by summing the number of crossings by port and vehicle type. To account for all traffic (north and south bound), we assume that all traffic that enters the United States will also leave. This assumption is necessary as north bound traffic will experience benefits from this rule and quality data on outbound traffic is not available. To ensure that these benefits are recorded, south bound traffic data will be doubled. See Table 6.

¹⁷ Source: Traffic Distributions are pulled from “Preliminary Results of the Comprehensive Traffic and Toll Revenue Study for the DRIC Project Forecast Refresh and Update—Traffic-Only Summary—May 2010” prepared for the Michigan DOT. Available at: https://www.partnershipborderstudy.com/pdf/2-2010/DRIC%20Comprehensive%20TR%20Study%20Draft%20Final%20Report%20February%202010%20two-sided.pdf. Last accessed: July 3rd, 2024.

¹⁸ The “Preliminary Results of the Comprehensive Traffic and Toll Revenue Study for the DRIC Project Forecast Refresh and Update” was completed in May 2010 and assumes the new crossing will open in 2015. However, due to delays the crossing will be completed in FY2026. In this economic analysis, the distributions for 2015 will be used. This will match the first year of the original study to the first year of Gordie Howe International Bridge's operation and account for the initial “ramp-up” period as traffic patterns shift over time.

AMB CrossingsPOV,2025 = Total CrossingsPOV,2024 * AMB POV Distribution * AMB Multiplier

To account for growth in traffic over time, we use the same methodology from the baseline section to calculate the growth for each crossing. This is done by multiplying the corresponding multiplier in Table 2 by the previous year's crossings. This process was repeated for years 2026-2030 and results for each crossing by vehicle type are reported in Table 6.

Table 5—Traffic Share Distributions With GHIB
POE | POV (%) | COV (%)
AMB | 23.70 | 33.10
DWT | 23.20 | 1.00
BWB | 25.00 | 21.40
GHIB | 28.10 | 44.50
Source: Preliminary Results of the Comprehensive Traffic and Toll Revenue Study for the DRIC Project Forecast Refresh and Update.

Table 6—Forecasted Traffic Volumes in Thousands—GHIB
Fiscal year | AMB: POV | AMB: COV | DWT: POV | DWT: COV | BWB: POV | BWB: COV | GHIB: POV | GHIB: COV | Total: POV | Total: COV
2025 | 3,497 | 2,966 | 3,843 | 37 | 2,079 | 1,780 | * | * | 9,419 | 4,783
2026 | 2,248 | 1,594 | 2,194 | 48 | 2,378 | 1,034 | 2,668 | 2,146 | 9,489 | 4,822
2027 | 2,264 | 1,606 | 2,203 | 48 | 2,402 | 1,044 | 2,690 | 2,164 | 9,560 | 4,862
2028 | 2,280 | 1,617 | 2,212 | 48 | 2,427 | 1,055 | 2,712 | 2,181 | 9,631 | 4,902
2029 | 2,296 | 1,629 | 2,221 | 49 | 2,451 | 1,066 | 2,734 | 2,199 | 9,703 | 4,942
2030 | 2,313 | 1,640 | 2,230 | 49 | 2,476 | 1,076 | 2,757 | 2,217 | 9,776 | 4,983

Costs

The construction of the new U.S. border crossing at Gordie Howe International Bridge will create new costs for CBP. Passenger and commercial vehicles will not experience new costs as a result of this regulation. In this section, CBP will discuss costs in qualitative and, when possible, quantitative and monetized terms.

CBP

CBP will be responsible for the costs of providing government furnished equipment (GFE) to the new border crossing facility. The cost of furnishing the facility is estimated at $55 million in FY 2026 and $7.5 million each additional year. See Table 7 for total annual costs.

Additionally, CBP will be responsible for staffing the POE. Staffing levels for CBP are determined by Congress with nation-wide mission requirements and operational tempo driving the placement of personnel. CBP utilizes a Workload Staffing Model (WSM) to project frontline CBP officer staffing requirements at each of our POEs. The WSM is the initial, data-driven, step in the process of quantifying workload, uses transactional workload performed at all POEs, and incorporates operational analysis, stakeholder reports, and scenario planning to ensure coverage of planned operations. As CBP continues to mitigate attrition and plan for projected increased retirements in FY 2028, CBP has implemented an efficient hiring strategy to ensure that it meets staffing goals while capitalizing on a healthy pipeline of dedicated applicants. CBP allocates new personnel to duty stations based on need, and CBP would hire positions regardless of the GHIB POE opening. Therefore, these costs will not be included in the analysis.

Table 7—CBP Annual Costs To Operate GHIB
[In 2024 undiscounted dollars]
Fiscal year | GFE
2020 | $0
2021 | 0
2022 | 0
2023 | 0
2024 | 0
2025 | 0
2026 | 55,000,000
2027 | 7,500,000
2028 | 7,500,000
2029 | 7,500,000
2030 | 7,500,000

Public: Passenger Vehicles & Commercial Vehicles

Users will pay a toll to use GHIB, but both passenger and commercial vehicles already pay a toll to use DWT, AMB, or BWB. The amount of the toll has not yet been set, but CBP believes that the tolls charged to use GHIB will be comparable to the alternative routes. Additionally, the public will choose their best route based on personal preferences (toll costs, time, and distance), and to remain competitive, all routes will charge tolls that are close in costs. For this reason, tolls are not a new cost charged by this rule.

Total Costs

CBP is expected to experience an undiscounted average annual cost of $17,000,000 as a result of this rule (2026-2030). Private and commercial vehicles will not experience any costs. See Table 8 for average annual costs and Table 9 for annual total costs.

Table 8—Average Annual Total Costs
[In undiscounted 2024 dollars]
| Baseline period (2016-2025) | Regulatory period (2026-2030)
POV | $0 | $0
COV | 0 | 0
CBP | 0 | 17,000,000

Table 9—Annual Total Costs
[In undiscounted 2024 dollars]
Fiscal year | POV | COV | CBP
2026 | $0 | $0 | $55,000,000
2027 | 0 | 0 | 7,500,000
2028 | 0 | 0 | 7,500,000
2029 | 0 | 0 | 7,500,000
2030 | 0 | 0 | 7,500,000

Table 10 shows the discounted costs for POV, COV, and CBP as a result of the rule. CBP is projected to experience a cost of $85,000,000 and annualized costs between $17,569,750 (3% discount rate) and $18,326,923 (7% discount rate). Private and commercial vehicles do not see any costs as a result of this rule.

Table 10—Monetized Present Value and Annualized Costs, FY 2016-2024
[2024 U.S. dollars]
| Undiscounted costs | Net present value | Annualized costs
3% Discount Rate
POV | $0 | $0 | $0
COV | 0 | 0 | 0
CBP | 85,000,000 | 80,464,309 | 17,569,750
Total | 85,000,000 | 80,464,309 | 17,569,750
7% Discount Rate
POV | 0 | 0 | 0
COV | 0 | 0 | 0
CBP | 85,000,000 | 75,144,004 | 18,326,923
Total | 85,000,000 | 75,144,004 | 18,326,923

Benefits & Cost Savings

Gordie Howe International Bridge will create benefits and cost savings for the public. In this section, CBP will discuss benefits for all parties in qualitative and, when possible, quantitative and monetized terms.

Public: Passenger Vehicles & Commercial Vehicles

The public will benefit greatly from the new crossing facility at GHIB. First, it provides a highway-to-highway connection that will reduce total travel time. Additionally, it will afford extra overall capacity to process vehicles that has the potential to reduce wait times at all border crossings in the area. The cost savings are quantifiable and will be described in monetary terms in this section.

However, there are several benefits that cannot be quantified and must be discussed qualitatively. Consequently, the total benefits may be larger than what the analysis captures in its quantitative calculations. Benefits may increase if traffic grows at a faster rate than forecasted and substantial new traffic is brought into the area as a result of this new crossing. However, there is not sufficient data to predict the level of new traffic in the region. Additionally, if total traffic increases, the new crossing also has the potential to increase international trade between the United States and Canada. CBP does not have sufficient data to estimate the effect of GHIB on increasing international trade. Lastly, the highway-to-highway connection that the GHIB provides will reduce heavy traffic on small roads and may improve safety.

The first quantifiable cost savings is that the use of GHIB will reduce travel time when compared to AMB and DWT. In this analysis, we will use the two most likely routes as determined in a report for Michigan DOT.¹⁹ The first route is U.S. I-75 South to Canadian Highway 401 (Route 1) and the second is U.S. I-96 North to Canadian Highway 401 (Route 2). CBP does not have travel data on the usage of each route. We assume that half of the traffic will use Route 1 and half will use Route 2. A map of each route is in the supporting documents titled “Supplemental Material—Potential Routes in Detroit, Michigan”. Table 11 reports the total distance and travel time compared with each crossing option (GHIB, AMB, DWT). Next, to determine the value of time savings that drivers will receive using GHIB, we must calculate the number of drivers diverting to GHIB from each existing crossing. We find this amount by multiplying the yearly traffic at GHIB by the traffic distributions in Table 2. See Table 12 for a breakdown by crossing and vehicle type. Annual time savings for POV and COV are then found by multiplying diverted traffic by the time savings in hours of the corresponding crossing and route. To monetize time savings, the hours that will be saved (Table 13) are multiplied by the corresponding hourly wage rate. For commercial truck drivers, the wage rate is $33.50 and, for all purpose city travelers, it is $26.60.²⁰ The values are reported in Table 14.

¹⁹ Source for time savings, travel routes, and distance: “Preliminary Results of the Comprehensive Traffic and Toll Revenue Study for the DRIC Project Forecast Refresh and Update—Traffic-Only Summary—May 2010” prepared for the Michigan DOT. Available at: https://www.partnershipborderstudy.com/pdf/2-2010/DRIC%20Comprehensive%20TR%20Study%20Draft%20Final%20Report%20February%202010%20two-sided.pdf. Last accessed June 13th, 2024.

²⁰ Source: U.S. Department of Transportation, Office of Transportation Policy. The Value of Travel Time Savings: Departmental Guidance for Conducting Economic Evaluations Revision 2 (2016 Update), “Table 4 (Revision 2—2016 Update): Recommended Hourly Values of Travel Time Savings.” September 27, 2016. The original hourly value is provided in 2015 U.S. dollars, CBP adjusted this hourly rate to 2022 values using the methodology provided by DOT. Original DOT policy is available at https://www.transportation.gov/sites/dot.gov/files/docs/2016%20Revised%20Value%20of%20Travel%20Time%20Guidance.pdf. Last accessed: July 3rd, 2024.

Table 11—Travel Time Savings
Crossing | Direction | Distance (mile) | Travel time (min) | Time saving in hours | Change in dist.
Time Travel Savings between Highway 401 and I-75 South
GHIB | To U.S | 23.60 | 29.80 |  |
AMB | To U.S | 24.76 | 33.30 | 0.06 | 1.16
DWT | To U.S | 26.01 | 37.60 | 0.13 | 2.41
GHIB | To Canada | 23.50 | 27.00 |  |
AMB | To Canada | 24.60 | 29.70 | 0.05 | 1.10
DWT | To Canada | 26.20 | 34.00 | 0.12 | 2.70
Time Travel Savings between Highway 401 and I-96 North
GHIB | To U.S | 25.60 | 29.40 |  |
AMB | To U.S | 24.20 | 30.10 | 0.01 | −1.40
DWT | To U.S | 23.80 | 31.80 | 0.04 | −1.80
GHIB | To Canada | 25.80 | 29.00 |  |
AMB | To Canada | 23.70 | 28.60 | −0.01 | −2.10
DWT | To Canada | 24.10 | 31.60 | 0.04 | −1.70

Table 12—Number of Vehicles Diverting to GHIB Annually
Fiscal year | AMB: POV | AMB: COV | DWT: POV | DWT: COV
2026 | 632,388 | 710,315 | 619,046 | 21,460
2027 | 637,573 | 716,140 | 624,122 | 21,636
2028 | 642,801 | 722,012 | 629,240 | 21,813
2029 | 648,072 | 727,933 | 634,400 | 21,992
2030 | 653,386 | 733,902 | 639,602 | 22,172

Table 13—Annual Time Savings by Vehicle Type and Crossing
[In hours]
Fiscal year | AMB: POV | AMB: COV | DWT: POV | DWT: COV
2026 | 17,127 | 19,238 | 51,071 | 1,770
2027 | 17,268 | 19,395 | 51,490 | 1,785
2028 | 17,409 | 19,554 | 51,912 | 1,800
2029 | 17,552 | 19,715 | 52,338 | 1,814
2030 | 17,696 | 19,877 | 52,767 | 1,829

Table 14—Annual Monetized Time Savings for Traffic Diverted to GHIB
[In undiscounted 2024 dollars]
Fiscal year | AMB: POV | AMB: COV | DWT: POV | DWT: COV
2026 | $492,406 | $590,598 | $1,468,300 | $54,352
2027 | 496,444 | 595,440 | 1,480,340 | 54,798
2028 | 500,514 | 600,323 | 1,492,479 | 55,247
2029 | 504,619 | 605,246 | 1,504,717 | 55,700
2030 | 508,757 | 610,209 | 1,517,056 | 56,157

A new crossing has the potential to reduce wait times at all crossings (AMB, DWT, BWB) as traffic will disperse among the four potential routes. For the purpose of this analysis, we assume that wait times will change based on the percent change in traffic when compared to the baseline traffic in Table 3 and that Canadian wait times will be the same as the United States. To calculate the percentage change of traffic, the new level of traffic (Table 6) is divided by the baseline forecast (Table 3).²¹ The percentage is multiplied by the average wait time in FY2023 (Table 15) for each crossing and mode to calculate the new wait time. For example, in 2026 traffic for POVs at AMB will be 65.6% of the baseline forecast. We find this percentage by taking the projected POV traffic at AMB with GHIB built reported in Table 6 (2,248,034) and divide it by the baseline projected AMB traffic without GHIB built in Table 3 (3,521,993). We multiply this percentage by the historical wait time for POVs at AMB (0.07 hours) to find the new wait time of 0.04 hours. Projected wait times for all modes and crossings are reported in Table 15. Next, time saved by crossing and mode of travel is found by subtracting the historical wait time from the projected wait time (Table 16). To calculate the total time saved per crossing, we multiply the corresponding time savings by the total traffic volumes, see Table 17. To monetize time savings, the hours that will be saved are multiplied by the corresponding hourly wage rate used above. See Table 18 for the value of time saved by reducing wait times.

²¹ We find a slight increase in traffic for COVs at DWT and POVs at BWB under our model; this is likely due to using older studies to form our estimates. However, no recent study exists and CBP does not have traffic data available to recalculate the traffic distribution estimates or traffic growth rates. CBP will assume that the wait times in these categories will remain the same (time saving is equal to 0.00).

Table 15—Projected and Actual Wait Times per Crossing
[In hours]
Fiscal year | AMB: POV | AMB: COV | DWT: POV | DWT: COV | BWB: POV | BWB: COV
2023 * | 0.067 | 0.138 | 0.055 | 0.048 | 0.153 | 0.274
2024 ** | 0.067 | 0.138 | 0.055 | 0.048 | 0.153 | 0.274
2025 ** | 0.067 | 0.138 | 0.055 | 0.048 | 0.153 | 0.274
2026 | 0.043 | 0.074 | 0.031 | 0.000 | 0.000 | 0.158
2027 | 0.043 | 0.074 | 0.031 | 0.000 | 0.000 | 0.158
2028 | 0.043 | 0.074 | 0.031 | 0.000 | 0.000 | 0.158
2029 | 0.043 | 0.074 | 0.031 | 0.000 | 0.000 | 0.158
2030 | 0.043 | 0.074 | 0.031 | 0.000 | 0.000 | 0.158
* Denotes actual wait times.
** FY 2024 and FY 2025 wait times are assumed to stay the same as FY 2023.

Table 16—Time Saved by Reducing Wait Times for Individual Trip
[In hours]
Fiscal year | AMB: POV | AMB: COV | DWT: POV | DWT: COV | BWB: POV | BWB: COV
2026 | 0.02 | 0.07 | 0.02 | 0.00 | 0.00 | 0.10
2027 | 0.02 | 0.07 | 0.02 | 0.00 | 0.00 | 0.10
2028 | 0.02 | 0.07 | 0.02 | 0.00 | 0.00 | 0.10
2029 | 0.02 | 0.07 | 0.02 | 0.00 | 0.00 | 0.10
2030 | 0.02 | 0.07 | 0.02 | 0.00 | 0.00 | 0.10

Table 17—Total Time Saved by Reducing Wait Times
[In hours]
Fiscal year | AMB: POV | AMB: COV | DWT: POV | DWT: COV | BWB: POV | BWB: COV
2026 | 54,688 | 102,791 | 52,394 | 0 | 0 | 120,469
2027 | 55,076 | 103,521 | 52,608 | 0 | 0 | 121,686
2028 | 55,467 | 104,256 | 52,824 | 0 | 0 | 122,915
2029 | 55,861 | 104,996 | 53,041 | 0 | 0 | 124,156
2030 | 56,257 | 105,741 | 53,258 | 0 | 0 | 125,410

Table 18—Annual Monetized Time Savings for Reduced Wait Times
[In undiscounted 2024 dollars]
Fiscal year | AMB: POV | AMB: COV | DWT: POV | DWT: COV | BWB: POV | BWB: COV
2026 | $1,572,267 | $3,155,678 | $1,506,317 | $0 | $0 | $3,698,404
2027 | 1,583,430 | 3,178,084 | 1,512,493 | 0 | 0 | 3,735,758
2028 | 1,594,672 | 3,200,648 | 1,518,694 | 0 | 0 | 3,773,489
2029 | 1,605,994 | 3,223,373 | 1,524,921 | 0 | 0 | 3,811,601
2030 | 1,617,397 | 3,246,259 | 1,531,173 | 0 | 0 | 3,850,098

Total Cost Savings

POVs are expected to experience an undiscounted average annual cost savings of $5,106,598 as a result of this rule (2026-2030). Additionally, COVs are expected to experience an undiscounted average annual cost savings of $7,630,292 as a result of this rule. CBP will not experience any benefit or cost savings. See Table 19 for average annual cost savings and Table 20 for annual total cost savings.

Table 19—Average Annual Total Cost Savings
[In undiscounted 2024 dollars]
| Baseline period (2016-2025) | Regulatory period (2026-2030)
POV | $0 | $5,106,598
COV | 0 | 7,630,292
CBP | 0 | 0

Table 20—Annual Total Cost Savings
[In undiscounted 2024 dollars]
Fiscal year | POV | COV | CBP | Total
2016 | $0 | $0 | $0 | $0
2017 | 0 | 0 | 0 | 0
2018 | 0 | 0 | 0 | 0
2019 | 0 | 0 | 0 | 0
2020 | 0 | 0 | 0 | 0
2021 | 0 | 0 | 0 | 0
2022 | 0 | 0 | 0 | 0
2023 | 0 | 0 | 0 | 0
2024 | 0 | 0 | 0 | 0
2025 | 0 | 0 | 0 | 0
2026 | 5,039,289 | 7,499,032 | 0 | 12,538,321
2027 | 5,072,706 | 7,564,080 | 0 | 12,636,786
2028 | 5,106,359 | 7,629,707 | 0 | 12,736,067
2029 | 5,140,251 | 7,695,920 | 0 | 12,836,170
2030 | 5,174,382 | 7,762,723 | 0 | 12,937,105

No party will receive a benefit or cost savings before the opening of GHIB. In Table 21, the discounted cost savings are shown for POV and COV, as a result of this rule in 2026-2030. CBP will see no benefit or cost savings. POVs see annualized cost savings between $5,102,037 (7% discount rate) and $5,104,602 (3% discount rate). COVs will see annualized cost savings between $7,621,391 (7% discount rate) and $7,626,397 (3% discount rate).

Table 21—Monetized Present Value and Annualized Cost Savings, FY 2026-2030
[2024 U.S. dollars]
| Undiscounted cost savings | Present value | Annualized cost savings
3% Discount Rate
POV | $25,532,988 | $23,377,582 | $5,104,602
COV | 38,151,461 | 34,926,665 | 7,626,397
CBP | 0 | 0 | 0
Total | 63,684,449 | 58,304,247 | 12,730,999
7% Discount Rate
POV | 25,532,988 | 20,919,360 | 5,102,037
COV | 38,151,461 | 31,249,209 | 7,621,391
CBP | 0 | 0 | 0
Total | 63,684,449 | 52,168,569 | 12,723,429

Gordie Howe International Bridge will provide cost savings through reduced driving time and reduced wait times. In addition to these savings, there are several benefits that cannot be quantified. The estimated benefits may increase if traffic grows at a faster rate than forecasted or if substantial new traffic is brought to the area. Additionally, there may be increased international trade between the United States and Canada. Lastly, there may be an increase in public safety as traffic is diverted from smaller roads to large highways.

Net Impact

The net impact of the rule is calculated by subtracting the expected costs from the expected benefits. Table 23 provides estimates of the discounted net benefits of this rule from 2026-2030. POVs and COVs are expected to experience a total net benefit from 2026 to 2030 as a result of this rule. POVs will experience annualized net benefits of $5,102,037 (7% discount rate) and $5,104,602 (3% discount rate). COVs will experience annualized net benefits between $7,621,391 (7% discount rate) and $7,626,397 (3% discount rate). Lastly, CBP will have a total net cost as a result of this rule. The annualized net cost for CBP will be between $17,569,750 (3% discount rate) and $18,326,923 (7% discount rate). While the net effects of the rule are negative, the builders of the bridge and the governments of the United States and Canada believe that the new crossing will increase traffic over time to become a public benefit. Additionally, they believe that the new crossing will increase international trade between the two nations. While we lack the information needed to calculate these benefits, it is plausible that they would exceed the net costs estimated in this rule. Lastly, the highway-to-highway connection will reduce heavy traffic on small roads and may improve safety.

Table 22—Net Benefit—Regulatory Period
[In undiscounted 2024 dollars]
Fiscal year | POV | COV | CBP | Total
2026 | $5,039,289 | $7,499,032 | −$55,000,000 | −$42,461,679
2027 | 5,072,706 | 7,564,080 | −7,500,000 | 5,136,786
2028 | 5,106,359 | 7,629,707 | −7,500,000 | 5,236,067
2029 | 5,140,251 | 7,695,920 | −7,500,000 | 5,336,170
2030 | 5,174,382 | 7,762,723 | −7,500,000 | 5,437,105
Total | 25,532,988 | 38,151,461 | −85,000,000 | −21,315,551
Average | 5,106,598 | 7,630,292 | −17,000,000 | −4,263,110

Table 23—Monetized Net Benefits, FY 2026-2030
[2024 U.S. dollars]
| Undiscounted benefits | Three percent: Present value | Three percent: Annualized cost | Seven percent: Present value | Seven percent: Annualized cost
POV | $25,532,988 | $23,377,582 | $5,104,602 | $20,919,360 | $5,102,037
COV | 38,151,461 | 34,926,665 | 7,626,397 | 31,249,209 | 7,621,391
CBP | −85,000,000 | −80,464,309 | −17,569,750 | −75,144,004 | −18,326,923
Total | −21,315,551 | −22,160,062 | −4,838,751 | −22,975,435 | −5,603,495

C. Regulatory Flexibility Act

The Regulatory Flexibility Act (5 U.S.C. 601 et. seq.) (RFA), as amended by the Small Business Regulatory Enforcement Fairness Act of 1996 (SBREFA), requires agencies to assess the impact of regulations on small entities. A small entity may be a small business (defined as any independently owned and operated business not dominant in its field that qualifies as a small business per the Small Business Act); a small not-for-profit organization; or a small governmental jurisdiction (locality with fewer than 50,000 people). This analysis is not mandated when an agency is exempted from notice and comment requirements. Since this document is not subject to the notice and comment requirements of 5 U.S.C. 553, it is not subject to the provisions of the Regulatory Flexibility Act. 5 U.S.C. 601 et seq.

D. Paperwork Reduction Act

In accordance with the Paperwork Reduction Act of 1995 (44 U.S.C. 3507), an agency may not conduct, and a person is not required to respond to, a collection of information unless the collection of information displays a valid control number assigned by OMB. This regulatory action does not require additional information from the public and is not subject to the Paperwork Reduction Act of 1995.

E. Unfunded Mandates Reform Act of 1995

This rule will not result in new expenditures by State, local, and tribal governments, in the aggregate, or by the private sector, of $100 million or more in any one year, and it will not significantly or uniquely affect small governments. Therefore, no actions are necessary under the provisions of the Unfunded Mandates Reform Act of 1995.

F. Executive Order 13132

This rule will not have substantial direct effects on the States, on the relationship between the National Government and the States, or on the distribution of power and responsibilities among the various levels of government. Therefore, in accordance with section 6 of Executive Order 13132, this rule does not have sufficient federalism implications to warrant the preparation of a federalism summary impact statement.

Signing Authority

The signing authority for this document falls under 19 CFR 0.2(a), which provides that the authority of the Secretary of the Treasury with respect to CBP regulations that are not related to customs revenue functions was transferred to the Secretary of DHS pursuant to section 403(1) of the Homeland Security Act of 2002 (Pub. L. 107-296, 116 Stat. 2178, 6 U.S.C. 203(1)). Accordingly, this final rule may be signed by the Secretary of Homeland Security (or her delegate).

List of Subjects in 8 CFR Part 100

Organization and functions (Government agencies).

Amendments to the Regulations

For the reasons set forth above, DHS amends 8 CFR part 100 as follows:

PART 100—STATEMENT OF ORGANIZATION

1. The authority citation for part 100 continues to read as follows:

Authority: 8 U.S.C. 1103; 8 U.S.C. 1185 note (section 7209 of Pub. L. 108-458); 8 CFR part 2.

2. In § 100.4(a), in the table under the headings “District No. 8—Detroit, Michigan” and “Class A” add, in alphabetical order, the entry for “Detroit, MI, Gordie Howe International Bridge” to read as follows:

§ 100.4 Field offices.

(a) * * *

* * * * *

District No. 8—Detroit, Michigan

Class A

* * * * *

Detroit, MI, Gordie Howe International Bridge

* * * * *

* * * * *

Kristi Noem,
Secretary of Homeland Security.

[FR Doc. 2026-01868 Filed 1-29-26; 8:45 am]

BILLING CODE 9111-14-P